DEPARTMENT OF COMMERCE

National Oceanic and Atmospheric Administration

Mid-Atlantic Fishery Management Council; Public Meetings

AGENCY: National Marine Fisheries Service (NMFS), National Oceanic and Atmospheric Administration (NOAA), Commerce.

ACTION: Notice of public meetings.

SUMMARY: The Scientific and Statistical Committee (SSC) and the Bluefish, Summer Flounder, Scup, and Black Sea Bass Monitoring Committees of the Mid-Atlantic Fishery Management Council (Council) will hold meetings.

DATES: The SSC will meet Wednesday and Thursday, July 25-26, 2012 beginning at 10 a.m. on July 25 and conclude by 3 p.m. on July 26. In addition, a meeting of the Council Monitoring Committees for bluefish, summer flounder, scup, and black sea bass will also be held on Friday, July 27, 2012 beginning at 8:30 a.m. and conclude by 5 p.m.

ADDRESSES: The meetings will be held at the Admiral Fell Inn, 888 South Broadway, Baltimore, MD 21231; telephone: (410) 539-2000.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The primary purpose of the SSC meeting includes: Make 2013 ABC recommendations to the Council for summer flounder, scup, black sea bass and bluefish; review and adopt criteria for establishing multi-year ABC recommendations; develop 2013/2014 research priority list for Council consideration. The primary purpose of the Council Monitoring Committees for bluefish, summer flounder, scup, and black sea bass includes: Developing annual catch target (ACT) recommendations for the Council to consider, as well as commercial and recreational management measures for the upcoming 2013 fishing year.

Although non-emergency issues not contained in this agenda may come before these groups for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to M. Jan Saunders at the Mid-Atlantic Council Office, (302) 526-5251, at least 5 days prior to the meeting date.

Dated: July 2, 2012.
Tracey L. Thompson,
Acting Director, Office of Sustainable Fisheries, National Marine Fisheries Service.

[FR Doc. 2012-16533 Filed 7-5-12; 8:45 am]

BILLING CODE 3510-22-P